DEPARTMENT OF THE INTERIOR

Bureau of Indian Affairs

[223A2100DD/AAKC001030/A0A501010.999900]

Indian Gaming; Approval of Forest County Potawatomi Community Tribal-State Class III Gaming Compact With the State of Wisconsin

AGENCY: Bureau of Indian Affairs, Interior.

ACTION: Notice.

SUMMARY: This notice publishes the approval of the 2022 Amendment and Extension to the Forest County Potawatomi Community of Wisconsin and the State of Wisconsin Class III Gaming Compact (Amendment) providing for Class III gaming between the Forest County Potawatomi Community (Tribe) and the State of Wisconsin (State).

DATES: The Amendment takes effect on April 12, 2022.

FOR FURTHER INFORMATION CONTACT: Ms. Paula L. Hart, Director, Office of Indian Gaming, Assistant Secretary—Indian Affairs, Washington, DC 20240, paula.hart@bia.gov, (202) 219-4066.

SUPPLEMENTARY INFORMATION: Under section 11 of the Indian Gaming Regulatory Act (IGRA), Public Law 100-497, 25 U.S.C. 2701 et seq., the Secretary of the Interior shall publish in the Federal Register notice of approved Tribal-State compacts for the purpose of engaging in Class III gaming activities on Indian lands. As required by 25 CFR 293.4, all compacts and amendments are subject to review and approval by the Secretary. The Amendment provides for on-reservation remote and retail sports wagering consistent with minimum internal control standards and rules of play agreed to by the State and the Tribe; extends the term of the compact to 2061; authorizes the Tribe to offer any form of table, electronic, or mechanical game; clarifies the existing Disaster Clause to include pandemics and provides a clear formula for the calculation of the reduction in revenue sharing payments if a facility is forced to close; contains several technical changes including removing obsolete language; and includes a forward looking provision which positions the Tribe to offer state-wide hub and spoke event wagering if State law is changed to allow such gaming, another Tribe's compact with the State authorizes such gaming, and the Tribe's Compact is amended. The Amendment is approved.

Wizipan Garriott,
Principal Deputy Assistant Secretary—Indian Affairs, Exercising by delegation the authority of the Assistant Secretary—Indian Affairs.

[FR Doc. 2022-07754 Filed 4-11-22; 8:45 am]

BILLING CODE 4337-15-P